DEPARTMENT OF THE INTERIOR

Bureau of Land Management

[NV-030-5870-EU; N-82710, N-82711; 7-08807]

Notice of Realty Action: Segregation of Public Land for Proposed Sale in Lyon County, NV

AGENCY: Bureau of Land Management, Interior.

ACTION: Notice of realty action.

SUMMARY: Two parcels of public lands totaling 998.2 acres in Lyon County, Nevada, are being considered for sale under the authority of Section 203 of the Federal Land Policy and Management Act of 1976 (FLPMA) 43 U.S.C. 1713. This Notice of Realty Action (NORA) is to provide for the segregation of lands being considered for sale for a period of up to 2 years.

DATES: Comments regarding the NORA must be received by October 4, 2007.

ADDRESSES: Address comments to: Donald T. Hicks, BLM Carson City Field Office, 5665 Morgan Mill Road, Carson City, NV 89701.

FOR FURTHER INFORMATION CONTACT: Fred Slagle, (775) 885-6115.

SUPPLEMENTARY INFORMATION: The following described public lands in Lyon County are located southwest (sec. 22) and south (sec. 36) of Fernley, Nevada.

Mount Diablo Meridian, Nevada

T. 20 N., R. 24 E.

Sec. 22, lots 1 to 6, inclusive, NE¼, E½NW¼, E½SW¼, and W½SE¼.

Sec. 36, E½NE¼NE¼, NW¼NE¼NE¼, N½NW¼NE¼, and W½.

The areas described aggregate 998.2 acres, more or less, in Lyon County.

The 2001 BLM Carson City Consolidated Resource Management Plan (RMP) identifies these public lands as suitable for disposal; therefore the sale meets the disposal qualification of Section 205 of the Federal Land Transaction Facilitation Act of July 25, 2000, 43 U.S.C. 2304. Conveyance of the identified public land will be subject to valid existing rights and encumbrances of record, including but not limited to, rights-of-way for roads and public utilities. Conveyance of any mineral interests pursuant to Section 209 of the FLPMA will be analyzed during processing of the proposed sale.

On August 20, 2007, the above-described lands will be segregated from appropriation under the public land laws, including the mining laws, except the sale provisions of the FLPMA. Until completion of the sale, the BLM is no longer accepting land use applications affecting the identified public land, except applications for the amendment of previously-filed right-of-way applications or existing authorizations to increase the term of the grants in accordance with 43 CFR 2807.15 and 2886.15. The segregative effect will terminate upon issuance of a patent, publication in the Federal Register of a termination of the segregation, or on August 20, 2009, unless extended by the BLM State Director in accordance with 43 CFR 2711.1-2(d) prior to the termination date.

Comments should concern the lands being considered for sale, including notification of any encumbrances or other claims relating to the identified lands. To ensure consideration in the environmental analysis of the proposed sale, comments must be in writing. Comments transmitted via telephone, fax, or e-mail will not be accepted. Comments, including names and street addresses of respondents, will be available for public review at the BLM Carson City Field Office during regular business hours, except holidays.

Before including your address, phone number, e-mail, or other personal identifying information in your comment, you should be aware that your entire comment—including your personal identifying information—may be made publicly available at any time. While you can ask us in your comment to withhold your personal identifying information from public review, we cannot guarantee that we will be able to do so.

Authority: 43 CFR 2711.1-2.

Donald T. Hicks,
Manager, Carson City Field Office.

[FR Doc. E7-16354 Filed 8-17-07; 8:45 am]

BILLING CODE 4310-HC-P